DEPARTMENT OF ENERGY

Federal Energy Regulatory Commission

[Project No. 13739-002]

Lock+ Hydro Friends Fund XLII, LLC; Notice of Waiver, in Part, of Prefiling Consultation Required Under Section 4.38(C) of the Commission's Regulations

Take notice that the following hydroelectric application has been filed with the Commission and is available for public inspection.

a. Type of Application: Major Original License.

b. Project No.: 13739-002.

c. Date Filed: September 17, 2012.

d. Applicant: Lock+ Hydro Friends Fund XLII, LLC.

e. Name of Project: Braddock Locks and Dam Hydroelectric Project.

f. Location: At the existing U.S. Army Corps of Engineers' Braddock Locks and Dam on the Monongahela River, in Allegheny County, Pennsylvania. The project would not occupy any federal lands.

g. Filed Pursuant to: Federal Power Act 16 U.S.C. 791(a)-825(r).

h. Applicant Contact: Mr. Mark R. Stover, Lock+™ Hydro Friends Fund XLII, c/o Hydro Green Energy, LLC, 900 Oakmont Lane, Suite 310, Westmont, IL 60559; (877) 556-6566 ext. 711; email—mark@hgenergy.com.

i. FERC Contact: John Mudre at (202) 502-8902; or email at john.mudre@ferc.gov.

j. The application is not ready for environmental analysis at this time.

k. The proposed project would utilize the existing U.S. Army Corps of Engineers' Braddock Locks and Dam and the Braddock Pool, and would consist of the following new facilities: (1) A new powerhouse with five turbine-generators having a total installed capacity of 3,750 kilowatts; (2) a new approximately 3,450-foot-long electric transmission line; (3) a switchyard and control room; and (4) appurtenant facilities. The average annual generation is estimated to be 25,020 megawatt-hours.

The proposed project would deploy hydropower turbines within a patented “Large Frame Module” (LFM) that would be deployed on the south (river left) side of the dam, opposite the location of the existing navigational locks and at the upstream face of the existing left closure weir. The proposed modular, low environmental impact powerhouse would be approximately 60.4 feet long, 16.6 feet wide, and 40 feet high, and constructed of structural-grade steel. The powerhouse will bear on a concrete foundation on rock that is anchored to the existing left closure weir. A trash rack with 6-inch openings would be placed at the powerhouse intake to increase safety and protect the turbines from large debris.

l. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

m. Waiver of Pre-filing Consultation: In its license application, filed on September 17, 2012, the applicant stated that it had been engaged in direct, substantive consultation with the entities that have expressed interest in the proposed project, including key federal and state agencies involved in the review of the proposed project. The applicant further states that in August, 2012, it forwarded an informal draft of the license application and associated study reports to the interested agencies, and subsequently met with the agencies to discuss the documents in detail. The applicant's license application included copies of correspondence from the U.S. Army Corps of Engineers, the U.S. Fish and Wildlife Service, and the Pennsylvania Department of Environmental Protection expressing support for proceeding directly to a final license application.

Therefore, we intend to accept the consultation that has occurred on this project during the pre-filing period and we intend to waive the pre-filing consultation requirements under section 4.38(c) pertaining to distribution and consultation on the draft license application.

Dated: October 17, 2012.
Kimberly D. Bose,
Secretary.

[FR Doc. 2012-26136 Filed 10-23-12; 8:45 am]

BILLING CODE 6717-01-P